DEPARTMENT OF ENERGY

Federal Energy Regulatory Commission

[Docket Nos. EL16-6-001, ER16-121-000]

PJM Interconnection, LLC; Supplemental Notice of Technical Conference

As announced in a Notice issued on January 13, 2016, the Federal Energy Regulatory Commission (Commission) will hold a technical conference on Thursday, February 4, 2016. The technical conference will focus on whether PJM Interconnection, LLC's (PJM) existing Auction Revenue Rights (ARR) and Financial Transmission Rights (FTR) tariff provisions are unjust and unreasonable and whether PJM's proposed revisions to its tariff addressing these matters are just and reasonable. The technical conference will commence at 9:30 a.m. and conclude at 5:00 p.m. and be held at the Federal Energy Regulatory Commission, 888 First Street NE., Washington, DC 20426. This technical conference is free of charge and open to the public. The technical conference will be led by Commission staff, and Commission members may be in attendance and participate.

The agenda and a list of participants/speakers for this technical conference are attached. A schedule for post-technical comments will be established at the technical conference.

Those who plan to attend the technical conference are encouraged to complete the registration form located at: https://www.ferc.gov/whats-new/registration/02-04-16-form.asp. There is no registration deadline.

The technical conference will be transcribed. Transcripts of the technical conference will be available for a fee from Ace-Federal Reporters, Inc.¹ Additionally, there will be a free webcast of the technical conference. The webcast will allow persons to listen to the technical conference but not participate. Anyone with Internet access who wants to listen to the technical conference can do so by navigating to the Calendar of Events at www.ferc.gov, locating the technical conference in the Calendar, and clicking on the webcast link. The Capitol Connection provides technical support for the webcast and offers the option of listening to the meeting via phone-bridge for a fee.²

¹ The Web site for ACE-Federal Reports, Inc. is www.acefederal.com and the phone number is 202-347-3700.

² If you have any questions, visit Capitol Connection's Web site at www.CapitolConnection.org, or call 703-993-3100.

Commission technical conferences are accessible under section 508 of the Rehabilitation Act of 1973. For accessibility accommodations, please send an email to accessibility@ferc.gov or call toll free (866) 208-3372 (voice) or (202) 502-8659 (TTY), or send a fax to (202) 208-2106 with the requested accommodations.

For more information about the technical conference, please contact:

Sarah McKinley (Logistical Information), Office of External Affairs, Federal Energy Regulatory Commission, 888 First Street NE., Washington, DC 20426, (202) 502-8004, Sarah.McKinley@ferc.gov.

Pamela Quinlan (Technical Information), Office of Energy Market Regulation, Federal Energy Regulatory Commission, 888 First Street NE., Washington, DC 20426, (202) 502-6179, Pamela.Quinlan@ferc.gov.

Kent Carter (Legal Information), Office of General Counsel, Federal Energy Regulatory Commission, 888 First Street NE., Washington, DC 20426, (202) 502-8604, Kent.Carter@ferc.gov.

Daniel Kheloussi (Technical Information), Office of Energy Policy and Innovation, Federal Energy Regulatory Commission, 888 First Street NE., Washington, DC 20426, (202) 502-6391, Daniel.Kheloussi@ferc.gov.

Dated: January 28, 2016.
Nathaniel J. Davis, Sr.,
Deputy Secretary.

[FR Doc. 2016-01956 Filed 2-2-16; 8:45 am]

BILLING CODE 6717-01-P